SMALL BUSINESS ADMINISTRATION

[Disaster Declaration #12879 and #12880]

Pennsylvania Disaster Number PA-00045

AGENCY: U.S. Small Business Administration.

ACTION: Amendment 3.

SUMMARY: This is an amendment of the Presidential declaration of a major disaster for Public Assistance Only for the State of Pennsylvania (FEMA—4030—DR), dated 10/07/2011.

Incident: Tropical Storm Lee.

Incident Period: 09/03/2011 through 10/15/2011.

DATES: Effective Date: 11/17/2011.

Physical Loan Application Deadline Date: 12/06/2011.

Economic Injury (EIDL) Loan Application Deadline Date: 07/09/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Pennsylvania, dated 10/07/2011, is hereby amended to include the following areas as adversely affected by the disaster.

Primary Counties:Chester, Northampton, Lackawanna, Mifflin, Adams.

All other information in the original declaration remains unchanged.

(Catalog of Federal Domestic Assistance Numbers 59002 and 59008)

James E. Rivera,
Associate Administrator for Disaster Assistance.

[FR Doc. 2011-30496 Filed 11-25-11; 8:45 am]

BILLING CODE 8025-01-P